DEPARTMENT OF STATE

[Public Notice 4850]

In the Matter of the Designation of Jam'at al Tawhid wa'al-Jihad, Also Known as the Monotheism and Jihad Group, Also Known as the al-Zarqawi Network, Also Known as al-Tawhid, as a Foreign Terrorist Organization Pursuant to Section 219 of the Immigration and Nationality Act

Based upon a review of the Administrative Record assembled in this matter, and in consultation with the Attorney General and the Secretary of the Treasury, the Secretary of State has concluded that there is a sufficient factual basis to find that the relevant circumstances described in section 219 of the Immigration and Nationality Act, as amended (8 U.S.C. 1189, hereinafter “INA”), exist with respect to Jam'at al Tawhid wa'al-Jihad.

Therefore, effective October 15, 2004, the Secretary of State hereby designates that organization as a foreign terrorist organization pursuant to section 219(1) of the INA.

Dated: October 8, 2004.
Ambassador Cofer Black,
Coordinator for Counterterrorism, Department of State.

[FR Doc. 04-23173 Filed 10-14-04; 5:00 pm]

BILLING CODE 4710-10-P